DEPARTMENT OF COMMERCE

International Trade Administration

[A-469-805]

Stainless Steel Bar From Spain: Final Results of Antidumping Duty Administrative Review; 2012-2013

AGENCY: Enforcement and Compliance, International Trade Administration, Department of Commerce.

SUMMARY: The Department of Commerce (the Department) is conducting an administrative review of the antidumping duty order on stainless steel bar (SSB) from Spain. The period of review (POR) is March 1, 2012, through February 28, 2013. The review covers one producer/exporter of the subject merchandise, Gerdau Aceros Especiales Europa, S.L. (Gerdau).¹ We determine that subject merchandise has not been sold at less than normal value during the POR.

¹ We determine that Gerdau is the successor-in-interest to Sidenor Industrial S.L. For further discussion, see the memorandum from Christian Marsh, Deputy Assistant Secretary for Antidumping and Countervailing Duty Operations, to Paul Piquado, Assistant Secretary for Enforcement and Compliance, “Issues and Decision Memorandum for Final Results of Antidumping Duty Administrative Review: Stainless Steel Bar from Spain; 2012-2013” dated concurrently with and hereby adopted by this notice (Issues and Decision Memorandum).

DATES: Effective Date: October 22, 2014.

FOR FURTHER INFORMATION CONTACT: Minoo Hatten, AD/CVD Operations, Office I, Enforcement and Compliance, International Trade Administration, U.S. Department of Commerce, 14th Street and Constitution Avenue NW., Washington, DC 20230; telephone: (202) 482-1690.

SUPPLEMENTARY INFORMATION:

Background

On April 23, 2014, the Department published the Preliminary Results and invited interested parties to comment.² Carpenter Technology Corporation, Crucible Industries LLC, Universal Stainless & Alloy Products Inc., and Valbruna Slater Stainless, Inc. (collectively, the petitioners) filed a case brief on May 30, 2014. Gerdau filed a rebuttal brief on June 4, 2014.

² See Stainless Steel Bar From Spain: Preliminary Results of Antidumping Duty Administrative Review; 2012-2013, 79 FR 22622 (April 23, 2014) (Preliminary Results).

The deadline for the final results of this review was August 21, 2014. On July 16, 2014, we extended the deadline for the final results to October 20, 2014.³

³ See memorandum from Sandra Dreisonstok, International Trade Compliance Analyst, to Christian Marsh, Deputy Assistant Secretary for Antidumping and Countervailing Duty Operations, “Stainless Steel Bar from Spain: Extension of Deadline for Final Results of Antidumping Duty Administrative Review; 2012-2013” dated July 16, 2014. In this memorandum, we inadvertently calculated an extended deadline of October 14, 2014 (60 days from the date of signature) instead of October 20, 2014 (60 days from the date of publication). See September 10, 2014, memorandum to the file from Sandra Dreisonstok, International Trade Compliance Analyst, clarifying this error.

Scope of the Order

The merchandise subject to the order is SSB. The SSB subject to the order is currently classifiable under subheadings 7222.10.00, 7222.11.00, 7222.19.00, 7222.20.00, 7222.30.00 of the Harmonized Tariff Schedule of the United States (HTSUS). The HTSUS subheadings are provided for convenience and customs purposes.⁴ The written description is dispositive.

⁴ A full description of the scope of the order is contained in the Preliminary Results, and accompanying Preliminary Decision Memorandum.

Analysis of Comments Received

All issues raised in the case briefs by parties to this administrative review are addressed in the Issues and Decision Memorandum. A list of the issues raised is attached to this notice as an appendix. The Issues and Decision Memorandum is a public document and is on file electronically via Enforcement and Compliance's Antidumping and Countervailing Duty Centralized Electronic Service System (IA ACCESS). Access to IA ACCESS is available to registered users at http://iaaccess.trade.gov and is available to all parties in the Central Records Unit, Room 7046 of the main Department of Commerce building. In addition, a complete version of the Issues and Decision Memorandum can be found at http://enforcement.trade.gov/frn/index.html.

Changes Since the Preliminary Results

Based on our analysis of the comments received, we did not make any revisions to the margin calculations for Gerdau.

Final Results of Review

As a result of this review, we determine that a weighted-average dumping margin of 0.00 percent exists for Gerdau for the period March 1, 2012, through February 28, 2013.

Disclosure

We intend to disclose the calculations performed to parties in this proceeding within five days of the date of publication of this notice in accordance with 19 CFR 351.224(b).

Assessment Rates

The Department shall determine, and U.S. Customs and Border Protection (CBP) shall assess, antidumping duties on all appropriate entries. Because Gerdau's weighted-average dumping margin is zero, we will instruct CBP not to assess duties on any of its entries in accordance with the Final Modification for Reviews, i.e., “{w}here the weighted-average margin of dumping for the exporter is determined to be zero or de minimis, no antidumping duties will be assessed.” ⁵

⁵ See Antidumping Proceedings: Calculation of the Weighted-Average Dumping Margin and Assessment Rate in Certain Antidumping Proceedings: Final Modification, 77 FR 8101, 80102 (February 14, 2012).

For entries of subject merchandise during the POR produced by Gerdau for which it did not know its merchandise was destined for the United States, we will instruct CBP to liquidate unreviewed entries at the all-others rate if there is no rate for the intermediate company(ies) involved in the transaction.⁶

⁶ For a full discussion of this clarification, see Antidumping and Countervailing Duty Proceedings: Assessment of Antidumping Duties, 68 FR 23954 (May 6, 2003).

We intend to issue instructions to CBP 15 days after publication of these final results of this review.

Cash Deposit Requirements

The following deposit requirements will be effective upon publication of the notice of final results of administrative review for all shipments of SSB from Spain entered, or withdrawn from warehouse, for consumption on or after the date of publication as provided by section 751(a)(2) of the Tariff Act of 1930, as amended (the Act): (1) The cash deposit rate for Gerdau will be the rate established in the final results of this administrative review; (2) for merchandise exported by manufacturers or exporters not covered in this review but covered in a prior segment of the proceeding, the cash deposit rate will continue to be the company-specific rate published for the most recent period; (3) if the exporter is not a firm covered in this review, a prior review, or the original investigation but the manufacturer is, the cash deposit rate will be the rate established for the most recent period for the manufacturer of the merchandise; (4) the cash deposit rate for all other manufacturers or exporters will continue to be 25.77 percent,⁷ the all-others rate established in the less-than-fair-value investigation. These cash deposit requirements, when imposed, shall remain in effect until further notice.

⁷ See, e.g., Notice of Final Determination of Sales at Less Than Fair Value: Stainless Steel Bar From Spain, 59 FR 66931 (December 28, 1994).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

We are issuing and publishing these results in accordance with sections 751(a)(1) and 777(i)(1) of the Act.

Dated: October 16, 2014.
Paul Piquado,
Assistant Secretary for Enforcement and Compliance.

Appendix—List of Topics Discussed in the Issues and Decision Memorandum

I. Summary

II. List of Comments

1. Non-Bona Fides U.S. Sales

2. Post-Sale Invoicing of International Freight

III. Background

IV. Scope of the Order

V. Discussion of the Issues

VI. Successor-in-Interest

VII. Recommendation

[FR Doc. 2014-25196 Filed 10-21-14; 8:45 am]

BILLING CODE 3510-DS-P